DEPARTMENT OF AGRICULTURE

Forest Service

Proposed Recreation Fee Sites

AGENCY: Forest Service, USDA.

ACTION: Notice.

SUMMARY: The Fremont-Winema National Forest is proposing to establish several recreation fee sites. Proposed recreation fees collected at the proposed recreation fee sites would be used for operation, maintenance, and improvement of the sites. An analysis of nearby recreation fee sites with similar amenities shows the proposed recreation fees that would be charged at the new recreation fee sites are reasonable and typical of similar recreation fee sites in the area.

DATES: If approved, the proposed recreation fees would be established no earlier than six months following the publication of this notice in the Federal Register.

ADDRESSES: Fremont-Winema National Forest, Attention: Recreation Fees, 1301 South G Street, Lakeview, OR 97630.

FOR FURTHER INFORMATION CONTACT: Scott Stoffel, Forest Recreation Program Manager, (541) 947-2151 or sm.fs.Fee_Proposal@usda.gov.

SUPPLEMENTARY INFORMATION: The Federal Lands Recreation Enhancement Act (16 U.S.C. 6803(b)) requires the Forest Service to publish a six-month advance notice in the Federal Register of establishment of proposed recreation fee sites. In accordance with Forest Service Handbook 2309.13, Chapter 30, the Forest Service will publish the proposed recreation fee sites and proposed recreation fees in local newspapers and other local publications for public comment. Most of the proposed recreation fees would be spent where they are collected to enhance the visitor experience at the proposed recreation fee sites.

A proposed expanded amenity recreation fee of $10 per night and $5 per extra vehicle fee would be charged for Rye Spur Horse Camp and Sevenmile Equestrian Camp and Trailhead. A proposed expanded amenity recreation fee of $10 per night and $2 per extra vehicle fee would be charged for Jones Crossing, Happy Camp, and Willow Creek Campgrounds. An expanded amenity recreation fee of $5 per extra vehicle would be charged at Walt Haring Campground. A proposed expanded amenity recreation fee of $20 per night and $5 per extra vehicle would be charged for Annie Creek Campground and Sno-Park. In addition, a proposed expanded amenity recreation fee of $100 per night would be charged for rental of Pelican and Sevenmile Guard Stations.

A proposed standard amenity recreation fee of $5 per day per vehicle would be charged at Cold Springs, Malone Springs, Odessa, Rocky Point, Sevenmile Marsh, Summit Sno-Park/Pacific Crest Trail, and Wood River developed recreation sites. The Annual Northwest Forest Pass, National Forest Recreation Day Pass, National Forest Recreation ePass, and the America the Beautiful—the National Parks and Federal Recreational Lands Pass would be honored at these standard amenity recreation fee sites.

Expenditures of recreation fees collected at the proposed recreation fee sites would enhance recreation opportunities, improve customer service, and address maintenance needs. Once public involvement is complete, the proposed recreation fee sites and proposal recreation fees will be reviewed by a Recreation Resource Advisory Committee prior to a final decision and implementation. Reservations for campgrounds could be made online at www.recreation.gov or by calling 877-444-6777. Reservations would cost $8.00 per reservation.

Dated: July 26, 2024.
Jacqueline Emanuel,
Associate Deputy Chief, National Forest System.

[FR Doc. 2024-16868 Filed 7-30-24; 8:45 am]

BILLING CODE 3411-15-P